FEDERAL MEDIATION AND CONCILIATION SERVICE

Senior Executive Service Performance Review Board

AGENCY: Federal Mediation and Conciliation Service (FMCS).

ACTION: Notice of Senior Executive Service Performance Review Board.

SUMMARY: The Federal Mediation and Conciliation Service (FMCS) is issuing this notice to inform the public of the names of the members of the Agency's Senior Executive Service (SES) Performance Review Board.

DATES: This SES Performance Review Board is effective September 19, 2024.

FOR FURTHER INFORMATION CONTACT: Anna Davis, General Counsel, 202-606-3737, ogc@fmcs.gov, 250 E St. SW, Washington, DC 20427.

SUPPLEMENTARY INFORMATION: Section 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

The members of FMCS's Performance Review Board are:

1. Adrienne Adger, Human Resource Director (Chair and non-voting member), Federal Mediation and Conciliation Service

2. Javier Ramirez, Deputy Director, Field Operations, Federal Mediation and Conciliation Service

3. Marla Hendrickkson, External Career SES member, Food and Drug Administration

4. Sarah Cudahy, Associate Deputy Director, Field Operations National/International, Federal Mediation and Conciliation Service

5. Nicole Wallace, Director of Finance, Federal Mediation and Conciliation Service

Dated: September 13, 2024.
Anna Davis,
General Counsel.

[FR Doc. 2024-21272 Filed 9-18-24; 8:45 am]

BILLING CODE 6732-01-P